DEPARTMENT OF ENERGY

Federal Energy Regulatory Commission

Notice of Draft License Application and Preliminary Draft Environmental Assessment (PDEA) and Request for Preliminary Terms and Conditions

July 2, 2001.

Take notice that the following hydroelectric application has been filed with the Commission and is available for public inspection.

a. Type of Application: Major Unconstructed Project.

b. Project No.: 11656-000.

c. Date Filed: June 15, 2001.

d. Applicant: Lake Dorothy Hydro, Inc.

e. Name of Project: Lake Dorothy Hydroelectric.

f. Location: In the Tongas National Forest, at Lake Dorothy on Dorothy Creek, near Juneau, Alaska. Township 42S, Range 69E and 70E, Copper River Meridian.

g. Filed Pursuant to: Federal Power Act 16 U.S.A. 791(a)-825(r).

h. Applicant Contact: Mr. Corry V. Hildenbrand, Lake Dorothy Hydro, Inc., 5601 Tonsgard Court, Juneau, AK 99801-7201, (907) 463-6315.

Send Comments to: Mr. Corry V. Hildenbrand, Lake Dorothy Hydro, Inc., 5601 Tonsgard Court, Juneau, AK 99801-7201. AND Ms. Susan Tinney, S. Tinney Associates, Inc., Licensing Coordinator, P.O. Box 985, Lake City, CO 81235.

i. FERC Contact: Mike Henry (503) 944-6762 or e-mail at mike.henry@ferc.fed.us.

j. Status of Project: With this notice the Commission is soliciting (1) preliminary terms, conditions, and recommendations on the Preliminary Draft Environmental Assessment (DEA), and (2) comments on the Draft License Application.

k. Deadline for filing: 90 days from the issuance of this notice.

All comments on the Preliminary DEA and Draft License Application should be sent to the addresses noted above in Item (h), with one copy filed with FERC at the following address: David P. Boergers, Secretary, Federal Energy Regulatory Commission, 888 First Street, NE., Washington, DC 20426. All comments must include the project name and number and bear the heading Preliminary Comments, Preliminary Recommendations, Preliminary Terms and Conditions, or Preliminary Prescriptions.

Comments, protests and interventions and preliminary recommendations, terms and conditions and prescriptions may be filed electronically via the Internet in lieu of paper. See, 18 CFR 385.2001(a)(1)(iii) and the instructions on the Commission's web site at http:/www.ferc.gov under the link to the User's Guide. If you have not yet established an account, you will need to create a new account by clicking on “Login to File” and then “New User Account.”

l. A copy of the application is available for inspection and reproduction at the Commission's Public Reference and Files Maintenance Branch, located at 888 First Street, NE., Room 2-A, Washington, DC 20426, or by calling (202) 219-1371. A copy of the application may also be viewed on the web at http://www.ferc.gov using the “RIMS” link, select “Docket#” from the RIMS Menu and follow the instructions (please call (202) 208-2222 for assistance).

Lake Dorothy Hydro, Inc. has mailed a copy of the Preliminary DEA and Draft License Application to interested entities and parties. Copies of these documents are available for review at Lake Dorothy's Public Reference File established in Lake Dorothy Hydro, Inc.'s office in Juneau, Alaska, or by calling Susan Tinney, S. Tinney Associates, Inc. (970) 944-1020 or by e-mailing tinney@rmi.net.

m. With this notice, we are initiating consultation with the Alaska STATE HISTORIC PRESERVATION OFFICER (SHPO), as required by Section 106, National Historic Preservation Act, and the regulations of the Advisory Council on Historic Preservation, 36 CFR 800.4.

David P. Boergers,
Secretary.

[FR Doc. 01-17059 Filed 7-6-01; 8:45 am]

BILLING CODE 6717-01-M